SMALL BUSINESS ADMINISTRATION

Main Street Mezzanine Fund, L.P. License No. 06/06-0326; Notice Seeking Exemption Under Section 312 of the Small Business Investment Act, Conflicts of Interest

Notice is hereby given that Main Street Mezzanine Fund, L.P., 1300 Post Oak Boulevard, Houston, Texas 77056, a Federal Licensee under the Small Business Investment Act of 1958, as amended (“the Act”), in connection with the financing of a small concern, has sought an exemption under section 312 of the Act and Section 107.730, Financings which Constitute Conflicts of Interest of the Small Business of the Small Business Administration (“SBA”) Rules and Regulations (13 CFR 107.730 (2000)). Main Street Mezzanine Fund, L.P. proposes to provide a debt-with-warrants financing to Avail Consulting, LLC, 2929 Allen Parkway, Houston, Texas.

The financing is brought within the purview of section 107.730(e) of the Regulations inasmuch as a Principal of Main Street Mezzanine Fund, L.P. also serves on the Board of Directors of Avail Consulting, LLC. Avail Consulting, LLC is therefore considered an Associate of Main Street Mezzanine Fund, L.P., as defined in Section 107.50 of the Regulations.

Notice is hereby given that any interested person may submit written comments on the transaction within 30 days of the date of this notice to the Associate Administrator for Investment, U.S. Small Business Administration, 409 Third Street, SW., Washington, DC 20416.

Dated: April 16, 2003.
Jeffrey D. Pierson,
Associate Administrator for Investment.

[FR Doc. 03-10287 Filed 4-25-03; 8:45 am]

BILLING CODE 8025-01-M